NATIONAL TRANSPORTATION SAFETY BOARD

49 CFR Part 821

[Docket No. NTSB-GC-2011-0001]

RIN 3147-AA00

Rules of Practice in Air Safety Proceedings; Correction

AGENCY: National Transportation Safety Board (NTSB or Board).

ACTION: Final rule; correction.

SUMMARY: The NTSB is correcting a final rule published October 16, 2012, which inadvertently removed a portion of text from a paragraph within a section. This correction is a minor technical change.

DATES: Effective July 17, 2014.

ADDRESSES: Members of the public may contact the NTSB Office of General Counsel concerning this correction at 490 L'Enfant Plaza SW., Washington, DC 20594.

FOR FURTHER INFORMATION CONTACT: David Tochen, General Counsel, (202) 314-6080.

SUPPLEMENTARY INFORMATION: In its October 16, 2012 final rule, 77 FR 63245, in which the NTSB published rule changes concerning several sections in part 821, including email submission of documents, petitions for reconsideration, consideration of evidence concerning the existence of an emergency in cases proceeding under part 821, subpart I of the NTSB rules, the NTSB erroneously truncated the text of a paragraph within § 821.54(b). The NTSB intended to keep the final sentence of § 821.54(b), in addition to a new sentence immediately preceding it, which provides the respondent may include attachments to a petition for review of the Administrator's emergency determination. Also, the final sentence of paragraph (b) should continue to state, “The petition must be filed with the Board by overnight delivery service or facsimile and simultaneously served on the Administrator by the same means.” The NTSB's removal of this sentence in the October 16, 2012 final rule was an unintentional oversight.

List of Subjects in 49 CFR Part 821

Administrative practice and procedure, Airmen, Aviation safety.

Accordingly, the NTSB amends 49 CFR part 821 by making the following correcting amendment:

PART 821—RULES OF PRACTICE IN AIR SAFETY PROCEEDINGS

1. The authority citation for part 821 continues to read as follows:

Authority: 49 U.S.C. 1101-1155, 44701-44723, 46301, Pub. L. 112-153, unless otherwise noted.

2. In § 821.54, revise paragraph (b) to read as follows:

§ 821.54 Petition for review of Administrator's determination of emergency.

* * * * *

(b) Form, content and service of petition. The petition may be in letter form. A copy of the Administrator's order, from which review of the emergency determination is sought, must be attached to the petition. If a copy of the order is not attached, the petition will be dismissed. While the petition need only request that the Board review the Administrator's determination as to the existence of an emergency requiring the order be effective immediately, it may also enumerate the respondent's reasons for believing that the Administrator's emergency determination is not warranted in the interest of aviation safety. The respondent may include attachments to the petition for review (e.g., affidavits, other documents or records) limited to evidence the respondent believes supports the reasons enumerated in the petition for why the Administrator's emergency determination is not warranted in the interest of aviation safety. The petition must be filed with the Board by overnight delivery service or facsimile and simultaneously served on the Administrator by the same means.

* * * * *

Christopher A. Hart,
Acting Chairman.

[FR Doc. 2014-16712 Filed 7-16-14; 8:45 am]

BILLING CODE P